DEPARTMENT OF JUSTICE

Drug Enforcement Administration

Samuel Lee Steel, M.D.; Revocation of Registration

On August 20, 2004, the Deputy Assistant Administrator, Office of Diversion Control, Drug Enforcement Administration (DEA), issued an Order to Show Cause to Samuel Lee Steel, M.D. (Dr. Steel) who was notified of an opportunity to show cause as to why DEA should not revoke his DEA Certificate of Registration BS5024865, pursuant to 21 U.S.C. 824(a)(3) and deny any pending applications under 21 U.S.C. 823(f), on the ground that he lacked state authority to handle controlled substances in the State of California. The Order to Show Cause also notified Dr. Steel that should no request for a hearing be filed with 30 days, his hearing right would be deemed waived.

The order to Show Cause was sent by certified mail to Dr. Steel at his registered address of 1150 North Canyon Drive, Palm Springs, California 92263. According to the return receipt of the Order, it was accepted on Dr. Steel's behalf on September 1, 2004. DEA has not received a request for hearing or any other reply from Dr. Steel or anyone purporting to represent him in this matter.

Therefore, the Deputy Administrator of DEA, finding that (1) thirty days having passed since the delivery of the Order to Show Cause to the registrant's address of record and (2) no request for hearing having been received, concludes that Dr. Steel is deemed to have waived his hearing right. See David W. Linder, 67 FR 12579 (2002). After considering material from the investigative file in this matter, the Deputy Administrator now enters her final order without a hearing pursuant to 21 CFR 1301.43(d) and (e) and 1301.46.

The Deputy Administrator finds that Dr. Steel is currently registered with DEA as a practitioner authorized to handle controlled substances in Schedules II through V under Certificate of Registration BS5024865, expiring on February 29, 2005. According to information in the investigative file, following an Interim Order of Suspension, on April 1, 2004, the Medical Board of California (Board) revoked Dr. Steel's Physician and Surgeon's Certificate, effective as of May 3, 2004. The revocation was based on the Board's finding that Dr. Steel was mentally impaired to a degree that he was unable to safely practice medicine.

There is no evidence before the Deputy Administrator to rebut a finding that Dr. Steel's California medical license has been revoked. Therefore, the Deputy Administrator finds Dr. Steel is currently not authorized to practice medicine in the State of California. As a result, it is reasonable to infer that he is also without authorization to handle controlled substances in that State.

DEA does not have statutory authority under the Controlled Substance Act to issue or maintain a registration if the applicant or registrant is without state authority to handle controlled substances in the state in which he conducts business. See 21 U.S.C. 802(21), 823(f) and 824(a)(3). This prerequisite has been consistently upheld. See Richard J. Clement, M.D., 68 FR 12103 (2003); Dominick A. Ricci, M.D., 68 FR 51104 (1993); Bobby Watts, M.D., 53 FR 11919 (1988).

Here, it is clear that Dr. Steel's state medical license was revoked after being initially suspended and there is no information before the Deputy Administrator which points to that revocation having been lifted or stayed. As a result, Dr. Steel is not authorized to practice medicine or handle controlled substances in California, where he is registered with DEA. Therefore, he is not entitled to maintain that registration.

Accordingly, the Deputy Administrator of the Drug Enforcement Administration, pursuant to the authority vested in her by 21 U.S.C. 823 and 824 and 28 CFR 0.100(b) and 0.104, hereby orders that DEA Certificate of Registration, BS5024865, issued to Samuel Lee Steel, M.D., be, and it hereby is, revoked. The Deputy Administrator further orders that any pending applications for renewal or modification of the aforementioned registration be, and hereby are, denied. This order is effective April 8, 2005.

Dated: January 14, 2005.
Michele M. Leonhart,
Deputy Administrator.

[FR Doc. 05-4564 Filed 3-8-05; 8:45 am]

BILLING CODE 4410-09-M